DEPARTMENT OF COMMERCE

International Trade Administration

Announcement of Approved International Trade Administration Trade Mission

AGENCY: International Trade Administration, Department of Commerce.

SUMMARY: The United States Department of Commerce, International Trade Administration (ITA), is announcing an upcoming trade mission that will be recruited, organized, and implemented by ITA. This mission is: Global Diversity Export Initiative (GDEI) Education Trade Mission to Brazil, Discover the Hidden Values in U.S. Higher Education, Sao Paolo, Salvador and Fortaleza Brazil, April 11-15, 2023. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a Study State Consortia or other government education stakeholders (e.g., Governor's offices, state trade offices, economic development organizations, etc.), the applicant must certify that, for each firm or service provider to be represented, the products and/or services the represented firm or service provider seeks to export are either produced in the United States or, if not, marketed under the name of a U.S. firm and have at least 51% U.S. content.

A Study State Consortia or other government education stakeholder applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a Study State Consortia or other government education stakeholder, the applicant must certify that each firm or service provider to be represented by the association/organization can make the above certifications.

The Following Selection Criteria Will Be Used for the Mission

Targeted mission participants are U.S. institutions, service providers, Study State Consortia, and other government education stakeholders providing or promoting U.S. programs and services that have an interest in entering or expanding their business in the mission's destination country. The following criteria will be evaluated in selecting participants:

• Suitability of the applicant's (or in the case of a Study State Consortia or other government education stakeholder, represented institution's or service provider's) programs or services to this market.

• The applicant's (or in the case of a Study State Consortia or other government education stakeholder, represented institution's or service provider's) potential for business in the markets, including likelihood of exports resulting from the mission; and

• Consistency of the applicant's (or in the case of a Study State Consortia or other government education stakeholder, represented institution's or service provider's) goals and objectives with the stated scope of the mission.

Balance of institution size and location may also be considered during the review process.

Referrals from a political party or partisan political group or any information, including on the application, containing references to political contributions or other partisan political activities will be excluded from the application and will not be considered during the selection process.

The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Important Note About the COVID-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previously selected applicants with the option to opt-in to the new virtual program.

Mission List: (additional information about trade missions can be found at https://www.trade.gov/trade-missions).

GDEI Education Trade Mission to Brazil, Discover the Hidden Values in U.S. Higher Education, Sao Paolo, Salvador, and Fortaleza Brazil, April 11-15, 2023

Summary

The United States Department of Commerce, International Trade Administration (ITA)'s Global Education Team, is organizing an Education Trade Mission to Brazil, April 11-15, 2023. This Education Trade Mission will target U.S. Higher Educational Institutions (HEIs) which are New-to-Export (NTE), such as Historically Black Colleges and Universities (HBCUs) and Minority Serving Institutions (MSIs), and Study State Consortia (composed of colleges and universities, community programs, and similar entities representing education within U.S. states) and other government education stakeholders (e.g., Governor's offices, state trade offices, economic development organizations, etc.) that are interested in recruiting students from student communities in Brazil's Northeast region. It will include an anchor stop in São Paulo, a large metropolitan area that serves as the gateway to the Northeast and represents significant student recruitment and partnership opportunities. This trade mission is designed to provide a manageable (in terms of time and budgetary commitment) opportunity for HEIs that are new to exporting to experience the wide variety of opportunities U.S. Government-led trade missions offer for internationalization. The geographic proximity of the market lessens the travel, logistics and time zone burden for participants allowing them to focus on the core activities of the trade mission. Brazilian students seeking international education opportunities have an affinity for U.S. HEIs also due to this geographic proximity and cultural familiarity. The Brazilian market is therefore a good first market for NTE HEIs to explore.

Recruitment and consideration will be extended to all export-ready institutions, Study State Consortia, and other government educational stakeholders that meet the established criteria for participation in the mission. ITA is seeking to improve outreach and representation of HEIs that enroll students from underserved communities, such as U.S. HBCUs and MSIs. This mission is in alignment with Executive Order 13985 on Advancing Racial Equity and Support for Underserved Communities Through the Federal Government (January 25, 2021) (E.O. 13985), the U.S. Department of Commerce Equity Action Plan, and the Global Diversity Export Initiative of the U.S. Commercial Service. For the purposes of the trade mission, ITA adopts the definition of “underserved communities” in E.O. 13985: “populations sharing a particular characteristic, as well as geographic communities, that have been systematically denied a full opportunity to participate in aspects of economic, social, and civic life, as exemplified by the list in the preceding definition of `equity.' ” “Equity” is defined by E.O. 13985 as “the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.” This trade mission is also designed to be responsive to the priorities stated by Secretary of Commerce Gina Raimondo and outlined in the Equity Action Plan released in April 2022 which includes “[s]trengthen[ing] small businesses in underserved communities by helping them be successful exporters”.

In addition to publishing notice of the trade mission in the Federal Register, ITA is committed to outreach and recruitment through collaboration with organizations with ties to underserved communities. Federal agencies that will help to support recruitment for this mission include the U.S. Export-Import Bank and the Minority Business Development Agency.

The mission will begin in Sao Paolo, Brazil where delegates will participate in pre-arranged Business-to-Business (B2B) meetings with potential partners and customers, a market briefing with speakers from U.S. Mission to Brazil and Education sector stakeholders, as well as a welcome reception. The market briefings will be an opportunity for mission participants to network and to gain a deeper understanding of the opportunities in the region. The market briefings will include Officers and Locally Employed Specialists. The GDEI Education Trade Mission to Brazil will take place in coordination with the EducationUSA Roadshow, and as such the stops for both events will mirror each other through the end of the GDEI Education Trade Mission. Timelines for activities for each event have been coordinated to allow those institutions that wish to do so to participate in both. The separate events require their own registration with the U.S. Department of Commerce and Education USA respectively. The Education Mission will stay one day in Sao Paolo before a travel day to Fortaleza, the second Mission Stop.

In Fortaleza, mission participants will once again have the opportunity to participate in pre-arranged B2B meetings with potential partners and customers, and optional cultural activities to better understand the Northeastern Brazil region. For Mission participants who have chosen to register for the optional/add-on Education USA Roadshow, they will have the opportunity to join these activities and events as well.

After Fortaleza, mission participants will travel to Salvador for the final Mission stop. This is also the third stop for the and optional EducationUSA Roadshow. In Salvador, participants will have B2B meetings with potential partners and customers. The GDEI Education Trade Mission to Brazil will conclude in Salvador.

Proposed Timetable

* Note: The final schedule and potential site visits will depend on the availability of host government and business officials, specific goals of mission participants, and ground transportation.

Tuesday, April 11 | • Trade Mission Participants Arrive in São Paulo, Brazil.
| • Welcome reception and networking.
Wednesday April 12 | • Sao Paolo programming.
| • Breakfast briefing.
| • Business-to-Business Meetings.
| • Optional: Student Fair (EducationUSA).
Thursday, April 13 | • Optional: School Visits (EducationUSA).
| • Business-to-Business Meetings continued.
| • Travel to next stop, Fortaleza, Brazil.
| • Optional: Evening Cultural Event (No Host).
Friday, April 14 | • Programming in Fortaleza.
| • Breakfast briefing.
| • Optional: School Visits (EducationUSA).
| • Business-to-Business Meetings.
| • Optional: Student Fair (EducationUSA).
Saturday, April 15 | • Travel to next stop, Salvador.
| • Programming in Salvador.
| • Luncheon and networking.
| • Optional: Student Fair (EducationUSA).
| • Trade Mission Concludes.
Sunday, April 16 | • Optional: Cultural Event (No Host).
| • Participants depart Salvador for the United States at their leisure or continue with EducationUSA to Belo Horizonte.

Participation Requirements

All parties interested in participating in the trade mission must submit an application package for consideration by the U.S. Department of Commerce (DOC). All applicants will be evaluated on their ability to meet the criteria as outlined below. A minimum and maximum of fifteen institutions, Study State Consortia, and/or government education stakeholders will be selected to participate in the mission from the applicant pool.

Fees and Expenses

After an institution, study state trade association has been selected to participate on the mission, a payment to the Department of Commerce in the form of a participation fee is required. The participation fee for the GDEI Education Trade Mission to Brazil will be $2,450 for public/private, non-profit institution, Study State Consortia, or other government education stakeholders; and $3,550 for private for-profit institution. The fee for each additional institution representative (private for-profit institution, private/public non-profit institution, Study State Consortia, or other government education stakeholder) is $350. Expenses for travel, lodging, meals, and incidentals will be the responsibility of each mission participant. Interpreter and driver services can be arranged for additional cost. Delegation members will be able to take advantage of U.S. Embassy rates for hotel rooms.

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Timeframe for Recruitment and Applications

Mission recruitment will be conducted in an open and public manner, including publication in the Federal Register, posting on the Commerce Department trade mission calendar (http://export.gov/trademissions) and other internet websites, press releases to general and trade media, direct mail, notices by industry trade associations/organizations and other multiplier groups, and publicity at industry meetings, symposia, conferences, and trade shows. Recruitment for the mission will begin immediately and conclude no later than February 28, 2023. The U.S. Department of Commerce will review applications and inform applicants of selection decisions on a rolling basis. Applications received after February 28, 2023, will be considered only if space and scheduling constraints permit.

Contacts

Jennifer Woods, Project lead/Director, U.S. Commercial Service Knoxville, (865) 338-3783, Jennifer.Woods@trade.gov

Rachel Alarid, Education International Trade Specialist, Industry and Analysis, Rachjel.Alarid@trade.gov

Michael Marangell, Commercial Officer, U.S. Commercial Service Sao Paolo, Michael.Marangell@trade.gov

Laura Reffatti, Commercial Specialist, U.S. Commercial Service Brasilia, Laura.Reffatti@trade.gov

Gemal Brangman,
Director, ITA Events Management Task Force.

[FR Doc. 2023-02150 Filed 2-1-23; 8:45 am]

BILLING CODE 3510-DR-P